DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before January 20, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-023-C.

Petitioner: Blue Mountain Energy, Inc., 3607 County Road #65, Rangely, Colorado 81648.

Mine: Deserado Mine, MSHA I. D No. 05-03505, located in Rio Blanco County, Colorado.

Regulation Affected: 30 CFR 75.380(d)(4)(iv) (Escapeways; bituminous and lignite mines).

Modification Request: The petitioner requests a modification of the existing standard to permit an alternative method of compliance by allowing a reduction in the required width of at least six feet of the working section's alternate escapeway so that the alternate escapeway can be moved to the conveyor belt haulage entry. The reduction in the required width of at least six feet will be between the mobile equipment and the conveyor belt structure for a distance of up to 500 feet. The Deserado Mine has mobile power center equipment and related cables suspended from a monorail in the haulage entry offset from and parallel to the conveyor belt. The reduced width in the proposed alternate escapeway will be between the belt structure and the hanging cables and power center equipment. The petitioner states that: (1) The power center and related cables and hydraulic hoses will be classified as “mobile equipment” thereby allowing a reduction in the alternate escapeway between the belt structure and mobile equipment; and (2) the conditions in the proposed location for the alternate escapeway in the working section are similar to those in the alternate escapeway already approved and in use in the belt entry near the headgate of the longwall section. The petitioner further states that the following precautions will be taken: (a) Reflective signs indicating “Limited Clearance” will be posted and maintained at both ends of the entire affected area where the clearance is less than 6 feet; (b) all employees required to work on the development section inby the affected area will be instructed on the impact of limited clearance and the importance of maintaining the escapeway in safe and travelable condition; (c) the walkway will be kept free of all hazards and obstructions, and all extraneous material not essential to the mining process, such as spare parts, loose rock and debris, will be removed to ensure a safe travelable walkway; (d) roof bolts installed as primary roof supports will not be used in mounting the monorail system, and supplemental roof bolts will be utilized for mounting the monorail system; and (e) roof bolts used to support the monorail will be of suitable length or type to assure the monorail is anchored in competent roof or designed for the roof structure and will be of suitable strength to support the monorail and the suspended equipment. The petitioner asserts that the proposed alternative method will at all times guarantee no less than the same measure of protection afforded the miners by the existing standard.

Docket Number: M-2009-024-C.

Petitioner: Lone Mountain Processing, Inc., Drawer C, St. Charles, Virginia 24282.

Mine: Clover Fork No. 1 Mine, MSHA I.D. No. 15-18647, Huff Creek No. 1 Mine, MSHA I.D. No. 15-17234, and Darby Fork No. 1 Mine, MSHA I.D. No. 15-02263, all located in Harlan County, Kentucky.

Regulation Affected: 30 CFR 75.503 (Permissible electric face equipment; maintenance) and 30 CFR 18.35 (Portable trailing cables and cords).

Modification Request: The petitioner requests a modification of the existing standard to permit: (1) The maximum length of the 480-volt trailing cables supplying power to the permissible pumps to be 5000 feet, and no greater than 30 horsepower; (2) the minimum kilovolt-ampere (KVA) rating of the power center supplying power to the pumps to be no less than 500 KVA; (3) the trailing cables for the 480-volt permissible pumps that are longer than 550 feet to not be smaller than No. 6 American Wire Gauge (AWG); (4) all circuit breakers used to protect No. 6 AWG trailing cables exceeding 550 feet in length to have instantaneous trip units calibrated to trip at 60 amperes. The trip setting of the circuit breakers will be sealed or locked so that the setting cannot be changed, and will have permanent, legible labels. Each label will be maintained legible and will identify the circuit breaker as being suitable for protecting No. 6 AWG cables; (5) replacement instantaneous trip units used to protect No. 6 AWG trailing cables to be calibrated to trip at 60 amperes, and the setting to be sealed or locked; (6) all circuit breakers used to protect No. 2 AWG trailing cables exceeding 700 feet in length to have instantaneous trip units calibrated to trip at 150 amperes. The trip setting of the circuit breakers will be sealed or locked so that the setting cannot be changed, and will have permanent, legible labels. Each label will be maintained legible and will identify the circuit breaker as being suitable for protecting No. 2 AWG cables; (7) replacement instantaneous trip units used to protect No. 2 AWG trailing cables to be calibrated to trip at 150 amperes and the setting to be sealed or locked; (8) all components that provide short-circuit protection to have a sufficient interruption rating in accordance with the maximum calculated fault currents available; a short-circuit current setting that will not exceed the setting specified in the approval documentation or 70 percent of the minimum available current, whichever is less; (9) permanent warning labels to be installed and maintained on the cover(s) of the power center or distribution box identifying the location of each sealed short-circuit protective device. These labels will warn miners not to change or alter these sealed short-circuit breaker settings. The petitioner states that: (1) Within 60 days after the Proposed Decision and Order becomes final, proposed revisions for its approved 30 CFR part 48 training plan, at any of the listed mines, will be submitted to the Coal Mine Safety and Health District Manager. The training plan will include: (a) Training in the mining methods and operating procedures for protecting the trailing cables against damage; (b) training in proper procedures for examining the trailing cables to ensure they are in safe condition; (c) training in the hazards of setting short-circuit interrupting device(s) too high to adequately protect the trailing cables; and (d) training in how to verify that the circuit interrupting device(s) protecting the trailing cable(s) are properly set and maintained. The petitioner asserts that the proposed alternative method will at all times guarantee no less than the same measure of protection afforded the miners by the standard.

Docket Number: M-2009-025-C.

Petitioner: Canyon Fuel Company, LLC, 1099 18th Street, Suite 2150, Denver, Colorado 80202.

Mine: Sufco Mine, MSHA I.D. No. 42-00089, located in Sevier County, Utah.

Regulation Affected: 30 CFR 75.500(d) (Permissible electric equipment).

Modification Request: The petitioner requests a modification of the existing standard to permit the use of battery-powered non-permissible surveying equipment in or inby the last open crosscut, as it pertains to the use of non-permissible surveying equipment, including, but not limited to, low-voltage or battery-powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in or inby the last open crosscut will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air outby the last open crosscut; (h) qualified personnel engaged in the use of surveying equipment will be properly trained to recognize the hazards associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-026-C.

Petitioner: Canyon Fuel Company, LLC, 1099 18th Street, Suite 2150, Denver, Colorado 80202.

Mine: Sufco Mine, MSHA I.D. No. 42-00089, located in Sevier County, Utah.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, as it pertains to the use of non-permissible surveying equipment, including, but not limited to, low-voltage or battery-powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in return air will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air out of the return; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-027-C.

Petitioner: Canyon Fuel Company, LLC, 1099 18th Street, Suite 2150, Denver, Colorado 80202.

Mine: Sufco Mine, MSHA I.D. No. 42-00089, located in Sevier County, Utah.

Regulation Affected: 30 CFR 75.1002(a) (Installation of electric equipment and conductors; permissibility).

Modification Request: The petitioner requests a modification of the existing standard to permit an alternative method of compliance to permit the use of battery-powered non-permissible surveying equipment within 150 feet of pillar workings or longwall faces, as it pertains to use of non-permissible surveying equipment, including, but not limited to, low-voltage or battery- powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used within 150 feet of pillar workings or longwall faces will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment within 150 feet of pillar workings or longwall faces; (e) non-permissible surveying equipment will not be used if methane is detected in concentrations at or above the levels specified in 30 CFR 75.323, for the area being surveyed. When methane is detected at such level while the non-permissible surveying equipment is being used, the equipment will be de-energized immediately and the non-permissible electronic equipment withdrawn further than 150 feet from pillar workings or longwall faces; (f) all hand-held methane detectors will be MSHA approved and maintained in permissible and proper operating condition; (g) batteries contained in the surveying equipment must be changed-out or charged in intake air outby the area within 150 feet of pillar workings or longwall faces; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-028-C.

Petitioner: Mountain Coal Company, LLC, 1099 18th Street, Suite 2150, Denver, Colorado 80802.

Mine: West Elk Mine, MSHA I.D. No. 05-03672, located in Gunnison County, Colorado.

Regulation Affected: 30 CFR 75.500(d) (Permissible electric equipment).

Modification Request: The petitioner requests a modification of the existing standard to permit the use of battery-powered non-permissible surveying equipment in or inby the last open crosscut, as it pertains to the use of non-permissible surveying equipment, including, but not limited to, low-voltage or battery-powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in or inby the last open crosscut will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air outby the last open crosscut; (h) qualified personnel engaged in the use of surveying equipment will be properly trained to recognize the hazards associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-029-C.

Petitioner: Mountain Coal Company, LLC, 1099 18th Street, Suite 2150, Denver, Colorado 80202.

Mine: West Elk Mine, MSHA I.D. No. 05-03672, located in Gunnison County, Colorado.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, as it pertains to the use of non-permissible surveying equipment, including, but not limited to, low-voltage or battery-powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in return air will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air out of the return; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-030-C.

Petitioner: Mountain Coal Company, LLC, 1099 18th Street, Suite 2150, Denver, Colorado 80202.

Mine: West Elk Mine, MSHA I.D. No. 05-03672, located in Gunnison County, Colorado.

Regulation Affected: 30 CFR 75.1002(a) (Installation of electric equipment and conductors; permissibility).

Modification Request: The petitioner requests a modification of the existing standard to permit an alternative method of compliance to permit the use of battery-powered non-permissible surveying equipment within 150 feet of pillar workings or longwall faces, as it pertains to use of non-permissible surveying equipment, including, but not limited to, low-voltage or battery- powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used within 150 feet of pillar workings or longwall faces will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment within 150 feet of pillar workings or longwall faces; (e) non-permissible surveying equipment will not be used if methane is detected in concentrations at or above the levels specified in 30 CFR 75.323, for the area being surveyed. When methane is detected at such level while the non-permissible surveying equipment is being used, the equipment will be de-energized immediately and the non-permissible electronic equipment withdrawn further than 150 feet from pillar workings or longwall faces; (f) all hand-held methane detectors will be MSHA approved and maintained in permissible and proper operating condition; (g) batteries contained in the surveying equipment must be changed-out or charged in intake air outby the area within 150 feet of pillar workings or longwall faces; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-031-C.

Petitioner: Canyon Fuel Company, LLC, 1099 18th Street, Suite 2150, Denver, Colorado 80202.

Mine: Dugout Canyon Mine, MSHA I.D. No. 42-01890, located in Carbon County, Utah.

Regulation Affected: 30 CFR 75.500(d) (Permissible electric equipment).

Modification Request: The petitioner requests a modification of the existing standard to permit the use of battery-powered non-permissible surveying equipment in or inby the last open crosscut, as it pertains to the use of non-permissible surveying equipment, including, but not limited to, low-voltage or battery- powered non-permissible survey equipment, portable battery-operated mine transits, total station surveying equipment, electronic distance meters, and other equipment that may have to be used including tools such as date loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in or inby the last open crosscut will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air outby the last open crosscut; (h) qualified personnel engaged in the use of surveying equipment will be properly trained to recognize the hazards associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-032-C.

Petitioner: Canyon Fuel Company, LLC, 1099 18th Street, Suite 2150, Denver, Colorado 80202.

Mine: Dugout Canyon Mine, MSHA I.D. No. 42-01890, located in Carbon County, Utah.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, as it pertains to the use of non-permissible surveying equipment, including, but not limited to, low-voltage or battery-powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in return air will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air out of the return; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-033-C.

Petitioner: Canyon Fuel Company, LLC, 1099 18th Street, Suite 2150, Denver, Colorado 80202.

Mine: Dugout Canyon Mine, MSHA I.D. No. 42-01890, located in Carbon County, Utah.

Regulation Affected: 30 CFR 75.1002(a) (Installation of electric equipment and conductors; permissibility).

Modification Request: The petitioner requests a modification of the existing standard to permit an alternative method of compliance to permit the use of battery-powered non-permissible surveying equipment within 150 feet of pillar workings or longwall faces, as it pertains to use of non-permissible surveying equipment, including, but not limited to, low-voltage or battery- powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used within 150 feet of pillar workings or longwall faces will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment within 150 feet of pillar workings or longwall faces; (e) non-permissible surveying equipment will not be used if methane is detected in concentrations at or above the levels specified in 30 CFR 75.323, for the area being surveyed. When methane is detected at such level while the non-permissible surveying equipment is being used, the equipment will be de-energized immediately and the non-permissible electronic equipment withdrawn further than 150 feet from pillar workings or longwall faces; (f) all hand-held methane detectors will be MSHA approved and maintained in permissible and proper operating condition; (g) batteries contained in the surveying equipment must be changed-out or charged in intake air outby the area within 150 feet of pillar workings or longwall faces; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-034-C.

Petitioner: Canyon Fuel Company, LLC, 1099 18th Street, Suite 2150, Denver, Colorado 80202.

Mine: Skyline #3 Mine, MSHA I.D. No. 42-01566, located in Carbon County, Utah.

Regulation Affected: 30 CFR 75.500(d) (Permissible electric equipment).

Modification Request: The petitioner requests a modification of the existing standard to permit the use of battery-powered non-permissible surveying equipment in or inby the last open crosscut, as it pertains to the use of non-permissible surveying equipment including, but not limited to, low-voltage or battery-powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in or inby the last open crosscut will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air outby the last open crosscut; (h) qualified personnel engaged in the use of surveying equipment will be properly trained to recognize the hazards associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-035-C.

Petitioner: Canyon Fuel Company, LLC, 1099 18th Street, Suite 2150, Denver, Colorado 80202.

Mine: Skyline #3 Mine, MSHA I.D. No. 42-01566, located in Carbon County, Utah.

Regulation Affected: 30 CFR 75.507-1(a) (Electric equipment other than power-connection points; outby the last open crosscut; return air; permissibility requirements).

Modification Request: The petitioner requests a modification of the existing standard to permit an alternative method of compliance to permit the use of battery-powered non-permissible surveying equipment in return airways, as it pertains to the use of non-permissible surveying equipment, including, but not limited to, low-voltage or battery-powered non-permissible survey equipment, portable battery-operated mine transits, total station surveying equipment, electronic distance meters, and other equipment that may have to be used including tools such as data loggers and laptop computers. Petitioner proposes the following: (a) Non-permissible electronic surveying equipment may be used when equivalent permissible electronic surveying equipment is not available. Such non-permissible surveying equipment includes portable battery-powered total station surveying equipment, mine transits, distance meters and data loggers; (b) all non-permissible electronic surveying equipment to be used in return air will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment in or inby the last open crosscut; (e) non-permissible surveying equipment will not be used if methane is detected in concentrations at or above the levels specified in 30 CFR 75.323, for the area being surveyed. When methane is detected at such level while the non-permissible surveying equipment is being used, the equipment will be de-energized immediately and the non-permissible electronic equipment withdrawn outby the last open crosscut; (f) all hand-held methane detectors will be MSHA approved and maintained in permissible and proper operating condition; (g) batteries contained in the surveying equipment must be changed-out or charged in intake air out of the return; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Docket Number: M-2009-036-C.

Petitioner: Canyon Fuel Company, LLC, 1099 18th Street, Suite 2150, Denver, Colorado 80202.

Mine: Skyline #3 Mine, MSHA I.D. No. 42-01566, located in Carbon County, Utah.

Regulation Affected: 30 CFR 75.1002(a) (Installation of electric equipment and conductors; permissibility).

Modification Request: The petitioner requests a modification of the existing standard to permit an alternative method of compliance to permit the use of battery-powered non-permissible surveying equipment within 150 feet of pillar workings or longwall faces, as it pertains to use of non-permissible surveying equipment, including, but not limited to, low-voltage or battery- powered non-permissible survey equipment, portable battery-operated mine transits, total station surveying equipment, electronic distance meters, and other equipment that may have to be used including tools such as data loggers and laptop computers. The petitioner proposes the following: (a) Non-permissible electronic surveying equipment may be used when equivalent permissible electronic surveying equipment is not available. Such non-permissible surveying equipment includes portable battery-powered total station surveying equipment, mine transits, distance meters and data loggers; (b) all non-permissible electronic surveying equipment to be used within 150 feet of pillar workings or longwall faces will be examined prior to use to ensure the equipment is being maintained in a safe operating condition. These checks will include: (i) Checking the instrument for any physical damage and the integrity of the case; (ii) removing the battery and inspecting it for corrosion; (iii) inspecting the contact points to ensure a secure connection to the battery; (iv) reinserting the battery and powering up and shutting down to ensure proper connections; and (v) checking the battery compartment cover to ensure that it is securely fastened; (c) record the results of the inspection and retain for one year, and make available to MSHA upon request; (d) a qualified person will continuously monitor for methane immediately before and during the use of non-permissible surveying equipment within 150 feet of pillar workings or longwall faces; (e) non-permissible surveying equipment will not be used if methane is detected in concentrations at or above the levels specified in 30 CFR 75.323, for the area being surveyed. When methane is detected at such level while the non-permissible surveying equipment is being used, the equipment will be de-energized immediately and the non-permissible electronic equipment withdrawn further than 150 feet from pillar workings or longwall faces; (f) all hand-held methane detectors will be MSHA approved and maintained in permissible and proper operating condition; (g) batteries contained in the surveying equipment must be changed-out or charged in intake air outby the area within 150 feet of pillar workings or longwall faces; (h) qualified personnel engaged in the use of surveying equipment will be properly trained to recognize the hazards and limitations associated with the use of non-permissible surveying equipment in areas where methane could be present; (i) the non-permissible surveying equipment will not be put into service until MSHA has initially inspected the equipment and determined that it is in compliance with all the terms and conditions in this petition; and (j) submit proposed revisions for the part 48 training plan to the District Manager, which will include specified initial and refresher training regarding the terms and conditions stated in the Proposed Decision and Order. The petitioner asserts that application of the existing standard will result in a diminution of safety to the miners and the proposed alternative method will at all times guarantee no less than the same measure of protection afforded the miners by the standard.

Dated: December 15, 2009.
Patricia W. Silvey,
Director, Office of Standards, Regulations and Variances.

[FR Doc. E9-30158 Filed 12-18-09; 8:45 am]

BILLING CODE 4510-43-P